DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Government Employment Forms.

Form Number(s): E-1, E-2, E-3, E-4, E-5, E-6, E-7, E-9.

Agency Approval Number: 0607-0452.

Type of Request: Revision of a currently approved collection.

Burden: 14,124 hours.

Number of Respondents: 16,913.

Avg Hours Per Response: 50 minutes.

Needs and Uses: The Census Bureau requests continued OMB clearance for the questionnaires needed to conduct the public employment program for the 2005 and 2006 Annual Survey of Government Employment and the 2007 Census of Governments, Employment Phase.

Since there are many different types and sizes of governments, each form is tailored to the unique characteristics of the type and size of government or government agency to be surveyed. The type of employment and pay data collected by the public employment program in the 2005 and 2006 Annual Survey of Government Employment and the 2007 Census of Governments is identical to data collected in recent annual surveys of government employment.

By state, the 2005 and 2006 Employment sample supports estimates of total local government employment and payrolls by type of government and government function. The 2007 Census of Governments will collect data for all of the governments in our universe by type of government and by government function.

Statistics compiled from data gathered using these forms are used in several important Federal government programs. Economists at the Bureau of Economic Analysis (BEA) use the statistics in two ways for developing the National Income and Product Accounts. First, the employment data are used in developing price deflators for the government sector components of the gross domestic product accounts. Secondly, the employment and payroll data are used in developing the government sector components for the national and sub-national personal income accounts and tables.

The Department of Housing and Urban Development (HUD) determines the allocation of operating subsidies to local housing authorities based on these survey data. The Bureau of Labor Statistics (BLS) used these data in its benchmarking procedures for state and local government components of the BLS monthly employment and earnings statistics.

The employment data are used for three other data collection efforts currently conducted by the Census Bureau. The Medical Expenditures Panel Survey (MEPS) collects data for the Department of Health and Human Services (HHS) on health plans offered to state and local government employees. The MEPS sample of public employees is drawn from the Census of Governments Employment file. The Criminal Justice Employment and Expenditure Survey (CJEE) and the Justice Assistance Data Survey (JADS) use employment data to provide employee and payroll statistics on police protection and correctional activities.

State and local government officials use these data to analyze and assess individual government labor force and wage levels. Both management and labor consult these data during wage and salary negotiations.

Public interest groups of many types produce analyses of public sector activities using these data. User organizations representing state and local government include the Council of State Governments, National Conference of State Legislatures, Government Research Association, Conference of Mayors, National Association of Counties, National League of Cities, and the International City/County Management Association. A third category, having a more specific focus on government activities, includes organizations such as the Tax Foundation, Michigan Taxpayers Association, National Sheriffs Association, and the Government Research Association.

A variety of other organizations and individuals make use of these data. Notable research organizations include the American Enterprise Institute, The Brookings Institution, the Rand Corporation, the Cato Institute, the Hudson Institute, and the Rockefeller Institute of Government. The instructors, researchers, and students in schools of public administration, political science, management, and industrial relations as well as other members of the public also use these data.

Affected Public: Federal Government; State, Local or Tribal Government.

Frequency: Annually.

Respondent's Obligation: Voluntary.

Legal Authority: Title 13 U.S.C. 161 and 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: October 26, 2004.
Madeleine Clayton,
Management Analyst, Office of the Chief Information Officer.

[FR Doc. 04-24292 Filed 10-29-04; 8:45 am]

BILLING CODE 3510-07-P